DEPARTMENT OF AGRICULTURE

Forest Service

Plumas County Resource Advisory Committee (RAC)

AGENCY: Forest Service, USDA.

ACTION: Notice of meetings.

SUMMARY: The Plumas County Resource Advisory Committee (RAC) will hold meetings on September 20, 2002, in Chilcoot, California, October 18, 2002 in Quincy, California, and a third on November 15 in Chester, California. The purpose of the meetings will be to finalize and approve the Cycle 2 final application form and recommendation/approval process, discuss fuels reduction issues, review concept papers submitted for Cycle 2 funding consideration, and to review efforts to date of projects previously approved for Cycle 1 funding under the Title 2 provisions of the Secure Rural Schools and Community Self-Determination Act of 2000.

DATES AND ADDRESSES: The September 20 meeting will take place from 9-1:30 p.m., at the Wood N' Rose Café, 94248 Highway 70, Chilcoot, California. The October 18 meeting will take place from 9-TBA, in the Mineral Building at the Plumas-Sierra County Fairgrounds, 204 Fairgrounds Road, Quincy, California. The November 15 meeting will take place from 9-TBA, at the Lake Almanor Elks Lodge, 164 Main Street, Chester, California.

FOR FURTHER INFORMATION CONTACT: Lee Anne Schramel Taylor, Forest Coordinator, USDA, Plumas National Forest, P.O. Box 11500/159 Lawrence Street, Quincy, CA, 95971; (530) 283-7850; or by e-mail eataylor@fs.fed.us. Final agendas are posted one week prior to the meeting on the Internet at: http://www.fs.r5.fs.fed.us/pay2states/plumas. Prior meeting minutes and agenda are available on the same site.

SUPPLEMENTARY INFORMATION: Agenda items for the September 20 meeting include: (1) Review and discuss cycle 1 project implementation efforts to date; (2) Review Forest Service plan for recruiting replacement members, (3) Consider and make decision on revised project budget for Cycle 1-Maidu Natural Assets Project; (4) Review and approve Cycle 2 final application form and discuss the recommendation/approval process, discuss fuels reduction issues and efforts to date in Plumas County; (5) Discuss administrative support; and, (6) Future meeting schedule/logistics/agenda.

The agenda for the October 18 meeting will include a review of concept papers submitted in Cycle 2 along with other items to be determined at the September meeting. Similarly, the agenda for the November meeting will include the Cycle 2 concept paper review along with other items to be determined at the October meeting. The meetings are open to the public and individuals may address the Committee after being recognized by the Chair.

Dated: September 6, 2002.
Fred Krueger,
Public Services Staff Officer.

[FR Doc. 02-23337 Filed 9-12-02; 8:45 am]

BILLING CODE 3410-11-M